DEPARTMENT OF TRANSPORTATION

Federal Aviation Administration

14 CFR Part 39

[Docket No. FAA-2011-0312; Directorate Identifier 2010-NM-159-AD]

RIN 2120-AA64

Airworthiness Directives; Empresa Brasileira de Aeronautica S.A. (EMBRAER) Model EMB-135ER, -135KE, -135KL, and -135LR Airplanes; and Model EMB-145, -145ER, -145MR, -145LR, -145MP, and -145EP Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

This [Brazilian] AD results from reports of cracking in the firewall of the auxiliary power unit (APU). This AD is being issued to detect and correct this cracking, which could result in reduced structural integrity of the fuselage and empennage in the event that a fire penetrates through the firewall of the APU.

* * * * *

The proposed AD would require actions that are intended to address the unsafe condition described in the MCAI.

DATES: We must receive comments on this proposed AD by June 3, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Empresa Brasileira de Aeronautica S.A. (EMBRAER), Technical Publications Section (PC 060), Av. Brigadeiro Faria Lima, 2170—Putim—12227-901 São Jose dos Campos—SP—BRASIL; telephone +55 12 3927-5852 or +55 12 3309-0732; fax +55 12 3927-7546; e-mail distrib@embraer.com.br; Internet: http://www.flyembraer.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Todd Thompson, Aerospace Engineer, International Branch, ANM-116, Transport Airplane Directorate, FAA, 1601 Lind Avenue, SW., Renton, Washington 98057-3356; telephone (425) 227-1175; fax (425) 227-1149.

SUPPLEMENTARY INFORMATION:

Comments Invited

We invite you to send any written relevant data, views, or arguments about this proposed AD. Send your comments to an address listed under the ADDRESSES section. Include “Docket No. FAA-2011-0312; Directorate Identifier 2010-NM-159-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The Agência Nacional de Aviação Civil (ANAC), which is the aviation authority for Brazil, has issued Brazilian Airworthiness Directive 2010-06-03R1, dated September 20, 2010 (referred to after this as “the MCAI”), to correct an unsafe condition for the specified products. The MCAI states:

This [Brazilian] AD results from reports of cracking in the firewall of the auxiliary power unit (APU). This AD is being issued to detect and correct this cracking, which could result in reduced structural integrity of the fuselage and empennage in the event that a fire penetrates through the firewall of the APU.

* * * * *

The required actions include repetitive detailed inspections for cracking of the rearward and forward face of the APU firewall, and repair if necessary. You may obtain further information by examining the MCAI in the AD docket.

Relevant Service Information

Embraer has issued Service Bulletin 145-53-0062, Revision 06, dated August 11, 2010; Subjects 5-20-47 and 5-20-57 of Chapter 5 of the EMBRAER EMB145 Aircraft Maintenance Manual, Part II, AMM-145/1124, Revision 53, dated October 28, 2010; and Chapter 53-32-13, Rear Fuselage II—APU Firewall—Repairs, of the EMBRAER EMB135, ERJ140, EMB145, Structural Repair Manual SRM-145/1142, Revision 43, dated December 1, 2010. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 668 products of U.S. registry. We also estimate that it would take about 2 work-hours per product to comply with the basic requirements of this proposed AD. The average labor rate is $85 per work-hour. Based on these figures, we estimate the cost of the proposed AD on U.S. operators to be $113,560, or $170 per product.

In addition, we estimate that any necessary follow-on actions would take about 10 work-hours and require parts costing $10,060 for a cost of $10,910 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Empresa Brasileira de Aeronautica S.A. (EMBRAER): Docket No. FAA-2011-0312; Directorate Identifier 2010-NM-159-AD.

Comments Due Date

(a) We must receive comments by June 3, 2011.

Affected ADs

(b) None.

Applicability

(c) This AD applies to Empresa Brasileira de Aeronautica S.A. (EMBRAER) Model EMB-135ER, -135KE, -135KL, and -135LR airplanes; and Model EMB-145, -145ER, -145MR, -145LR, -145MP, and -145EP airplanes; certificated in any category; equipped with titanium auxiliary power unit (APU) firewall part number (P/N) 145-47494-401, 145-26850-401, 145-26850-601, or 145-47494-403.

Subject

(d) Air Transport Association (ATA) of America Code 53: Fuselage.

Reason

(e) The mandatory continuing airworthiness information (MCAI) states:

This [Brazilian] AD results from reports of cracking in the firewall of the auxiliary power unit (APU). This AD is being issued to detect and correct this cracking, which could result in reduced structural integrity of the fuselage and empennage in the event that a fire penetrates through the firewall of the APU.

* * * * *

Compliance

(f) You are responsible for having the actions required by this AD performed within the compliance times specified, unless the actions have already been done.

Actions

(g) Within 3,300 flight hours after the effective date of this AD, do a detailed inspection for cracking of the rearward and forward face of the APU firewall, including its attachment to the fuselage, removing neither the structural reinforcements nor the dampers, in accordance with Task 05-20-47-200-801-A (aft of rear pressure bulkhead) and Task 05-20-57-200-801-A (tail cone fairing) of Chapter 5 of EMBRAER EMB145 Aircraft Maintenance Manual, Part II, AMM-145/1124, Revision 53, dated October 28, 2010.

(1) If no cracking is found during any inspection required by paragraph (g) of this AD, repeat the inspection thereafter at intervals not to exceed 6,600 flight hours, until the terminating action specified in paragraph (h) of this AD has been accomplished.

(2) If any cracking is found during any inspection required by paragraph (g) of this AD, before further flight, repair in accordance with Chapter 53-32-13, Rear Fuselage II—APU Firewall—Repairs, of the EMBRAER EMB135, ERJ140, EMB145, Structural Repair Manual SRM-145/1142, Revision 43, dated December 1, 2010; or in accordance with a method approved by the FAA, International Branch, ANM-116, or Agência Nacional de Aviação Civil (ANAC) (or its delegated agent). Within 6,600 flight hours after doing the repair, do the inspection required by paragraph (g) of this AD and repeat the inspection thereafter at intervals not to exceed 6,600 flight hours, until the terminating action specified in paragraph (h) of this AD has been accomplished.

Note 1: For the purpose of this AD, a detailed inspection is: “An intensive examination of a specific item, installation or assembly to detect damage, failure or irregularity. Available lighting is normally supplemented with a direct source of good lighting at an intensity deemed appropriate. Inspection aids such as mirrors, magnifying lenses, etc., may be necessary. Surface cleaning and elaborate access procedures may be required.”

Optional Terminating Action

(h) Replacing the APU firewall having P/N 145-47494-401, 145-26850-401, 145-26850-601, or 145-47494-403, with a new APU firewall having P/N 145-47494-607, in accordance with the Accomplishment Instructions of EMBRAER Service Bulletin 145-53-0062, Revision 06, dated August 11, 2010, terminates the repetitive inspections required in paragraphs (g)(1) and (g)(2) of this AD.

Credit for Actions Accomplished in Accordance With Previous Service Information

(i) Actions done before the effective date of this AD, in accordance with the applicable service bulletin specified in table 1 of this AD, are acceptable for compliance with the requirements of paragraph (h) of this AD.

Table 1—Credit Service Bulletins
EMBRAER Service Bulletin— | Revision— | Dated—
145-53-0062 | 05 | May 20, 2008.
145-53-0062 | 04 | November 23, 2007.
145-53-0062 | 03 | September 21, 2007.
145-53-0062 | 02 | January 25, 2006.
145-53-0062 | 01 | October 28, 2005.
145-53-0062 | Original | July 29, 2005.

FAA AD Differences

Note 2: This AD differs from the MCAI and/or service information as follows:

(1) The MCAI AD does not specify how to do the inspection for cracking. This AD requires doing a detailed inspection of the rearward and forward face of the APU firewall, including its attachment to the fuselage, in accordance with Task 05-20-47-200-801-A (aft of rear pressure bulkhead) and Task 05-20-57-200-801-A (tail cone fairing) of Chapter 5 of EMBRAER EMB145 Aircraft Maintenance Manual, Part II, AMM-145/1124, Revision 53, dated October 28, 2010.

(2) Where Subjects 5-20-47 and 5-20-57 of Chapter 5 of the EMBRAER EMB145 Aircraft Maintenance Manual, Part II, AMM-145/1124, Revision 53, dated October 28, 2010, specify an internal general visual inspection, this AD requires a detailed inspection.

Other FAA AD Provisions

(j) The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Todd Thompson, Aerospace Engineer, International Branch, ANM-116, Transport Airplane Directorate, FAA, 1601 Lind Avenue, SW., Renton, Washington 98057-3356; telephone (425) 227-1175; fax (425) 227-1149. Information may be e-mailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(k) Refer to MCAI ANAC Airworthiness Directive 2010-06-03R1, dated September 20, 2010; EMBRAER Service Bulletin 145-53-0062, Revision 06, dated August 11, 2010; Subjects 5-20-47 and 5-20-57 of Chapter 5 of the EMBRAER EMB145 Aircraft Maintenance Manual, Part II, AMM-145/1124, Revision 53, dated October 28, 2010; and Chapter 53-32-13, Rear Fuselage II—APU Firewall—Repairs, of the EMBRAER EMB135, ERJ140, EMB145, Structural Repair Manual SRM-145/1142, Revision 43, dated December 1, 2010; for related information.

Issued in Renton, Washington, on April 12, 2011.
Ali Bahrami,
Manager, Transport Airplane Directorate, Aircraft Certification Service.

[FR Doc. 2011-9409 Filed 4-18-11; 8:45 am]

BILLING CODE 4910-13-P